DEPARTMENT OF THE INTERIOR

National Park Service

[NPS-WASO-NRNHL-21417; PPWOCRADI0, PCU00RP14.R50000]

National Register of Historic Places; Notification of Pending Nominations and Related Actions

AGENCY: National Park Service, Interior.

ACTION: Notice.

SUMMARY: The National Park Service is soliciting comments on the significance of properties nominated before June 25, 2016, for listing or related actions in the National Register of Historic Places.

DATES: Comments should be submitted by August 1, 2016.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before June 25, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ALABAMA

Jefferson County

Downtown Birmingham Historic District (Boundary Increase III), Roughly bounded by 1st & 4th Aves., N., 20th St., N. & US 31, Birmingham, 16000489

ARIZONA

Maricopa County

Welnick Arcade Market and Liefgreen Seed Company Building, 341-345 W. Van Buren St., Phoenix, 16000490

COLORADO

Grand County

Smith—Eslick Cottage Court, 729 Lake Ave., Grand Lake, 16000491

ILLINOIS

Cook County

United States Customs House, 610 Canal St., Chicago, 16000492

KENTUCKY

Campbell County

Hubbard, Harlan, Studio, 129 Highland Ave., Fort Thomas, 16000493

Fayette County

Edgewood, 5910 Winchester Rd., Lexington, 16000494

Henry County

New Castle Historic Commercial District, Main & Main Cross Sts., New Castle, 16000495

Hopkins County

Madisonville Tuberculosis Hospital (Kentucky State Tuberculosis Hospitals, 1946-1950 MPS), 625 Hospital Dr., Madisonville, 16000496

Jefferson County

Afton, Wood F., Hall, Simmons University, 1811 Dumesnil St., Louisville, 16000497

Hughes, E.L., Company Building, 209 E. Main St., Louisville, 16000498

Seventh Street School, 1512 S. 7th St., Louisville, 16000499

Kenton County

Independence Historic District, Portions of Madison & McCullum Pikes, Independence, 16000500

Peaselburg Neighborhood Historic District, W. 16th, Holman, W. 19th & Russell Sts., Covington, 16000501

Laurel County

London Tuberculosis Hospital (Kentucky State Tuberculosis Hospitals, 1946-1950 MPS), 85 State Police Rd., London, 16000503

Mason County

Maysville Downtown Historic District (Boundary Increase), W. 2nd, Sutton, Market, Limestone, W. 4th & E. 4th Sts., Maysville, 16000502

McCracken County

Shawnee Steam Plant, 7900 Metropolis Lake Rd., West Paducah, 16000504

Oldham County

Johnson's Landing House and Farm, 2300 Rose Island Rd., Goshen, 16000505

Woodland, 3008 Ann Trese Cove, Crestwood, 16000506

MICHIGAN

Ingham County

Pulver Brothers Filling Station, 127 W. Grand River Ave., Lansing, 16000507

Ionia County

Portland High School, 306 Brush St., Portland, 16000508

Otsego County

Quick, James A. and Lottie J. (Congdon), House, 120 N. Center St., Gaylord, 16000509

Shiawassee County

Lincoln School, 120 Michigan Ave., Owosso, 16000510

MINNESOTA

Hennepin County

Grain Belt Beer Sign, 4 Island Ave. W., Minneapolis, 16000511

St. Louis County

Chisholm Commercial Historic District, W. Lake St. between Central Ave. N. & S. & 4th Ave., NW. & SW., the E. side of Central Ave. N. & S. between 1st St. NE., Chisholm, 16000512

MISSOURI

Jackson County

Belmont Hotel, 911 E. Linwood Blvd., Kansas City, 16000513

NEBRASKA

Gage County

First Trinity Lutheran Church, 11668 W. NE 4, Beatrice, 16000514

Lancaster County

Sky Park Manor, 1301 Lincoln Mall, Lincoln, 16000515

Washington County

Gottsch Farmstead, 17201 Dutch Hall Rd., Bennington, 16000516

PENNSYLVANIA

Union County

Spangler, George Christian and Anna Catherine, Farm, 1175 Wildwood, Mifflinburg, 16000517

WISCONSIN

Dane County

University of Wisconsin Arboretum, 1207 Seminole Hwy., Madison, 16000518

Racine County

Walker Manufacturing Company—Ajax Plant, 1520 Clark St., Racine, 16000519

WYOMING

Teton County

Alpenhof Lodge (Tourist Accommodations in Teton County, Wyoming MPS), 3255 W. Village Dr., Teton Village, 16000520

A request for removal has been received for the following resources:

MINNESOTA

Anoka County

Richardson Barn, 22814 Sunrise Rd., NE., East Bethel, 79001191

SOUTH CAROLINA

Jasper County

Grays Consolidated High School, US 278, Grays, 07000986

Lee County

Bishopville High School, 600 N. Main St., Bishopville, 04001087

Marion County

Old Brick Warehouse, Main and Wine Sts., Mullins, 84003828

Teasley, J.C., House, 131 E. Wine St., Mullins, 01000609

Authority: 60.13 of 36 CFR part 60.

Dated: June 30, 2016.
J. Paul Loether,
Chief, National Register of Historic Places/National Historic Landmarks Program.

[FR Doc. 2016-16712 Filed 7-14-16; 8:45 am]

BILLING CODE 4312-51-P